DEPARTMENT OF HEALTH AND HUMAN SERVICES

National Institutes of Health

Center for Scientific Review Amended; Notice of Meeting

Notice is hereby given of a change in the meeting of the Center for Scientific Review Special Emphasis Panel, April 02, 2014, 01:00 p.m. to April 02, 2014, 03:00 p.m., National Institutes of Health, 6701 Rockledge Drive, Bethesda, MD, 20892 which was published in the Federal Register on March 11, 2014, 79 FR 13660.

The meeting will be held on April 7, 2014, starting at 02:00 p.m. and ending at 03:30 p.m. The meeting location remains the same. The meeting is closed to the public.

Dated: March 11, 2014.
Michelle Trout,
Program Officer, Office of Federal Advisory Committee Policy.

[FR Doc. 2014-05870 Filed 3-17-14; 8:45 am]

BILLING CODE 4140-01-P